SURFACE TRANSPORTATION BOARD

30-Day Notice of Intent To Seek Extension of Approval: Household Goods Movers' Disclosure Requirements

AGENCY: Surface Transportation Board.

ACTION: Notice and request for comments.

SUMMARY: As required by the Paperwork Reduction Act of 1995, 44 U.S.C. 3501-3521 (PRA), the Surface Transportation Board (STB or Board) gives notice of its intent to seek approval from the Office of Management and Budget (OMB) for an extension of the information collections (here, third-party disclosures) required by the Board's decisions in Released Rates of Motor Common Carriers of Household Goods, RR 999 (Amendment No. 5) (STB served Jan. 21, 2011); Released Rates of Motor Common Carriers of Household Goods, RR 999 (Amendment No. 5) (STB served Jan. 10, 2012). The information collection is described in more detail below. The Board previously published a notice about this collection in the Federal Register. 81 FR 35,810 (June 3, 2016). That notice allowed for a 60-day public review and comment period. No comments were received.

DATES: Comments on this information collection should be submitted by November 14, 2016.

ADDRESSES: Written comments should be identified as “Paperwork Reduction Act Comments, Surface Transportation Board: Household Goods Movers' Disclosure Requirements.” These comments should be directed to the Office of Management and Budget, Office of Information and Regulatory Affairs, Attention: Chandana L. Achanta, Surface Transportation Board Desk Officer, by email at OIRA_SUBMISSION@OMB.EOP.GOV; by fax at (202) 395-6974; or by mail to Room 10235, 725 17th Street NW., Washington, DC 20503. Please also direct comments to Chris Oehrle, Surface Transportation Board, 395 E Street SW., Washington, DC 20423-0001, or to PRA@stb.gov.

FOR FURTHER INFORMATION CONTACT: For further information regarding this collection, contact Michael Higgins, Deputy Director, Office of Public Assistance, Governmental Affairs, and Compliance at (202) 245-0284 or at michael.higgins@stb.gov. [Assistance for the hearing impaired is available through the Federal Information Relay Service (FIRS) at 1-800-877-8339.]

SUPPLEMENTARY INFORMATION: Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Household Goods Movers' Disclosure Requirements.

OMB Control Number: 2140-0027.

STB Form Number: None.

Type of Review: Extension with change.

Respondents: Movers that desire to offer a rate limiting their liability on interstate moves to anything less than replacement value of the goods.

Number of Respondents: 7,000 (approximate number of Movers involved in authorized for-hire household goods carriage in the United States according to American Moving and Storage Association).

Frequency: On occasion.

Total Burden Hours: None. The change to the estimate form is a one-time, start-up cost, which was considered in the cost analysis of the Board's previous approval for this collection. In our initial request for approval, we estimated that 15 of the approximately 4,500 household goods movers were large firms that print their own forms and would have to produce modified forms to meet the new requirement. Further, any new large mover entrants would have to create forms based on other agency regulations—with or without the released rate disclosure—and, therefore, there is no longer an hourly burden for this collection.

Total “Non-hour Burden” Cost: Movers may provide these forms to shippers electronically. Further, as with the burden hours above, the one-time, start-up costs that were previously considered will no longer apply to existing movers and new entrants will not have any additional cost to add released rates to the forms required under other agency regulations. Therefore, there is no longer a non-hourly cost burden for this collection.

Needs and Uses: Congress, in the Safe, Accountable, Flexible, Efficient Transportation Equity Act: A Legacy for Users, § 4215, Public Law 109-59, 119 Stat. 1144, 1760 (2005), directed the Board to review consumer protection regulations concerning the loss or damage that occurs during interstate household goods moves. In Docket No. RR 999, the Board required household goods motor carriers and freight forwarders (together, Movers) to provide their customers with clear written information concerning the two available cargo-liability options, if they desired to offer a rate limiting their liability on interstate moves to anything less than replacement value of the goods. Movers were required to provide this information on the standard written estimate form, which the Federal Motor Carrier Safety Administration (FMCSA) already required Movers to provide to their household goods moving customers. See 49 CFR 375.213. Thus, Movers must inform consumers of their rights and obtain a signed waiver if the consumer elects anything other than full-value protection. Previously, consumers were sometimes confused and did not realize that they had waived full-value protection until after they had experienced damage to or loss of their goods. The information collection that is the subject of this notice is intended to correct this problem by providing early notice regarding the two liability options (full-value protection and the lower released-rate protection), as well as adequate time and information to help consumers decide which option to choose.

Under the PRA, a Federal agency conducting or sponsoring a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: October 6, 2016.
Brendetta S. Jones,
Clearance Clerk.

[FR Doc. 2016-24615 Filed 10-11-16; 8:45 am]

BILLING CODE 4915-01-P